DEPARTMENT OF THE TREASURY

Agency Information Collection Activities; Submission for OMB Review; Comment Request; Financial Crimes Enforcement Network (FinCEN)

AGENCY: Financial Crimes Enforcement Network, U.S. Department of the Treasury.

ACTION: Notice.

SUMMARY: The Department of the Treasury, as part of its continuing effort to reduce paperwork and respondent burden, invites the general public and other federal agencies to comment on proposed or continuing information collections, as required by the Paperwork Reduction Act of 1995.

DATES: Comments should be received on or before June 30, 2023 to be assured of consideration.

ADDRESSES: Written comments and recommendations for the proposed information collection should be sent within 30 days of publication of this notice to www.reginfo.gov/public/do/PRAMain. Find this particular information collection by selecting “Currently under 30-day Review—Open for Public Comments” or by using the search function.

Copies of the submissions may be obtained from Melody Braswell by emailing PRA@treasury.gov, calling (202) 622-1035, or viewing the entire information collection request at www.reginfo.gov.

SUPPLEMENTARY INFORMATION:

Financial Crimes Enforcement Network (FinCEN)

1. Title: Information Collection Requirements in Connection with the Imposition of a Special Measure Against Commercial Bank of Syria, Including its Subsidiary, Syrian Lebanese Commercial Bank, as a Financial Institution of Primary Money Laundering Concern.

OMB Control Number: 1506-0036.

Report Number: Not applicable.

Abstract: FinCEN is issuing this notice to renew the OMB control number for the imposition of a special measure against the Commercial Bank of Syria, including its subsidiary Syrian Lebanese Commercial Bank, as a financial institution of primary money laundering concern pursuant to the authority contained in 31 U.S.C. 5318A. See 31 CFR 1010.653.

Type of Review: Extension without change of a currently approved collection.

Affected Public: Businesses or other for-profit institutions, and not-for-profit institutions.

Frequency: One time notification and recordkeeping associated with the notification. See 31 CFR part 1010.653(b)(2)(i)(A) and 31 CFR part 1010.653(b)(3)(i).

Estimated Number of Respondents: 15,960.

¹ All counts are from the Q3 2022 Federal Financial Institutions Examination Council (FFIEC) Call Report data, available at https://cdr.ffiec.gov/public/pws/downloadbulkdata.aspx. Data for institutions that are not insured, are insured under non-FDIC deposit insurance regimes, or do not have a Federal functional regulator are from the FDIC's Research Information System, available at https://www.fdic.gov/foia/ris/index.html.

² Credit union data are from the National Credit Union Administration (NCUA) for Q3 2022, available at https://ncua.gov/analysis/credit-union-corporate-call-report-data.

³ According to the SEC, there are 3,527 brokers or dealers in securities as of the end of fiscal year 2021. See SEC, Fiscal Year 2023 Congressional Budget Justification, p. 33, https://www.sec.gov/files/FY%202023%20Congressional%20Budget%20Justification%20Annual%20Performance%20Plan_FINAL.pdf.

⁴ According to information provided by the SEC as of December 2022 (including filings made through January 20, 2023), there are 1,378 open-end registered investment companies that report on Form N-CEN. FinCEN assesses that such companies would be responsible for implementing the requirements imposed through the final rule issued on March 15, 2006.

⁵ As of November 30, 2022, there are 62 futures commission merchants. See Commodity Futures Trading Commission, “Financial Data for FCMs”, dated November 2022, available at https://www.cftc.gov/MarketReports/financialfcmdata/index.htm. Additionally, as of December 31, 2022, there are 974 introducing brokers in commodities according to the Commodity Futures Trading Commission. These two counts total 1,036.

Respondent Financial Institutions by Category
Type of institution | Count
Banks, savings associations, thrifts, trust companies ¹ | 5,102
Credit Unions ² | 4,917
Broker-dealers ³ | 3,527
Mutual funds ⁴ | 1,378
Futures commission merchants and introducing brokers in commodities ⁵ | 1,036
Total | 15,960

Estimated Time per Respondent: 1 hour.

Estimated Total Annual Burden: 15,960 hours (15,960 respondents × 1 hour).

2. Title: Information Collection Requirements in Connection with the Imposition of the Fifth Special Measure Against the Islamic Republic of Iran as a Jurisdiction of Primary Money Laundering Concern.

OMB Control Number: 1506-0074.

Report Number: Not applicable.

Abstract: FinCEN is issuing this notice to renew the OMB control number for the imposition of a special measure against the Islamic Republic of Iran as a jurisdiction of primary money laundering concern pursuant to the authority contained in 31 U.S.C. 5318A. See 31 CFR 1010.661.

Type of Review: Extension without change of a currently approved collection.

Affected Public: Businesses or other for-profit institutions, and not-for-profit institutions.

Frequency: One time notification and recordkeeping associate with the notification. See 31 CFR 1010.661(b)(3)(i)(A) and 1010.661(b)(4)(i).

Estimated Number of Respondents: 15,960.

⁶ All counts are from the Q3 2022 Federal Financial Institutions Examination Council (FFIEC) Call Report data, available at https://cdr.ffiec.gov/public/pws/downloadbulkdata.aspx. Data for institutions that are not insured, are insured under non-FDIC deposit insurance regimes, or do not have a Federal functional regulator are from the FDIC's Research Information System, available at https://www.fdic.gov/foia/ris/index.html.

⁷ Credit union data are from the National Credit Union Administration (NCUA) for Q3 2022, available at https://ncua.gov/analysis/credit-union-corporate-call-report-data.

⁸ According to the SEC, there are 3,527 brokers or dealers in securities as of the end of fiscal year 2021. See SEC, Fiscal Year 2023 Congressional Budget Justification, p. 33, https://www.sec.gov/files/FY%202023%20Congressional%20Budget%20Justification%20Annual%20Performance%20Plan_FINAL.pdf.

⁹ According to information provided by the SEC as of December 2022 (including filings made through January 20, 2023), there are 1,378 open-end registered investment companies that report on Form N-CEN. FinCEN assesses that such companies would be responsible for implementing the requirements imposed through the final rule issued on March 15, 2006.

¹⁰ As of November 30, 2022, there are 62 futures commission merchants. See Commodity Futures Trading Commission, “Financial Data for FCMs”, dated November 2022, available at https://www.cftc.gov/MarketReports/financialfcmdata/index.htm. Additionally, as of December 31, 2022, there are 974 introducing brokers in commodities according to the Commodity Futures Trading Commission. These two counts total 1,036.

Respondent Financial Institutions by Category
Type of Institution | Count
Banks, savings associations, thrifts, trust companies ⁶ | 5,102
Credit Unions ⁷ | 4,917
Broker-dealers ⁸ | 3,527
Mutual funds ⁹ | 1,378
Futures commission merchants and introducing brokers in commodities ¹⁰ | 1,036
Total | 15,960

Estimated Time per Respondent: 1 hour.

Estimated Total Annual Burden: 15,960 hours (15,960 respondents × 1 hour).

Authority: 44 U.S.C. 3501 et seq.

Melody Braswell,
Treasury PRA Clearance Officer.

[FR Doc. 2023-11458 Filed 5-30-23; 8:45 am]

BILLING CODE 4810-02-P